DEPARTMENT OF TRANSPORTATION

Federal Aviation Administration

14 CFR Part 39

[Docket No. FAA-2006-25391; Directorate Identifier 2006-NM-097-AD; Amendment 39-14956; AD 2007-04-23]

RIN 2120-AA64

Airworthiness Directives; Fokker Model F.28 Mark 0070 and 0100 Airplanes

AGENCY: Federal Aviation Administration (FAA), Department of Transportation (DOT).

ACTION: Final rule.

SUMMARY: The FAA is superseding an existing airworthiness directive (AD), which applies to certain Fokker Model F.28 Mark 0070 and 0100 airplanes. That AD currently requires a one-time inspection of the sliding members in the main landing gear (MLG) for cracking and replacement of the sliding members with serviceable parts if necessary. This new AD adds repetitive magnetic particle inspections of the sliding members of the MLG for cracking and corrective actions as necessary. This AD results from inspection findings that have shown repetitive inspections are needed to establish fleet safety. We are issuing this AD to detect and correct fatigue cracking of the sliding member, which could result in possible separation of the MLG from the airplane and consequent reduced controllability of the airplane upon landing and possible injury to passengers.

DATES: This AD becomes effective April 3, 2007.

The Director of the Federal Register approved the incorporation by reference of certain publications listed in the AD as of April 3, 2007.

On May 19, 2004 (69 FR 19759, April 14, 2004), the Director of the Federal Register approved the incorporation by reference of Fokker Service Bulletin SBF100-32-133, dated April 1, 2002.

ADDRESSES: You may examine the AD docket on the Internet at http://dms.dot.gov or in person at the Docket Management Facility, U.S. Department of Transportation, 400 Seventh Street SW., Nassif Building, Room PL-401, Washington, DC.

Contact Fokker Services B.V., Technical Services Dept., P.O. Box 231, 2150 AE Nieuw-Vennep, the Netherlands, for service information identified in this AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that supersedes AD 2004-08-01, amendment 39-13570 (69 FR 19759, April 14, 2004). The existing AD applies to certain Fokker Model F.28 Mark 0070 and 0100 airplanes. That supplemental NPRM was published in the Federal Register on December 28, 2006 (71 FR 78107). That supplemental NPRM proposed to continue to require a one-time inspection of the sliding members in the main landing gear (MLG) for cracking, and replacement of the sliding members with serviceable parts if necessary. That supplemental NPRM also proposed to require repetitive magnetic particle inspections of the sliding members of the MLG for cracking and corrective actions as necessary. That supplemental NPRM also revised the original NPRM by correcting a certain part number in the applicability.

Comments

We provided the public the opportunity to participate in the development of this AD. No comments have been received on the supplemental NPRM or on the determination of the cost to the public.

Conclusion

We have carefully reviewed the available data and determined that air safety and the public interest require adopting the AD as proposed by the supplemental NPRM.

Costs of Compliance

This AD affects about 37 airplanes of U.S. registry.

The inspection that is required by AD 2004-08-01 and retained in this AD takes either about 4 or 12 work hours per airplane, depending on airplane configuration, at an average labor rate of $80 per work hour. Based on these figures, the estimated cost of the currently required actions for U.S. operators is $11,840 or $35,520, or $320 or $960 per airplane, depending on airplane configuration.

The new required inspections take about 2 work hours per airplane, at an average labor rate of $80 per work hour. Based on these figures, the estimated cost of the new inspections specified in this AD for U.S. operators is $5,920, or $160 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13570 (69 FR 19759, April 14, 2004) and by adding the following new airworthiness directive (AD):

2007-04-23 Fokker Services B.V.: Amendment 39-14956. Docket No. FAA-2006-25391; Directorate Identifier 2006-NM-097-AD.

Effective Date

(a) This AD becomes effective April 3, 2007.

Affected ADs

(b) This AD supersedes AD 2004-08-01.

Applicability

(c) This AD applies to Fokker Model F.28 Mark 0070 and 0100 airplanes, certificated in any category; equipped with any Dowty or Messier-Dowty main landing gear (MLG) listed in Table 1 of this AD.

Table 1.—Affected Parts
MLG part number (P/N)— | Equipped with sliding member P/N—
201072011 | 201072301 or 201072305
201072012 | 201072301 or 201072305
201072013 | 201072301 or 201072305
201072014 | 201072301 or 201072305
201072015 | 201072301 or 201072305
201072016 | 201072301 or 201072305

Unsafe Condition

(d) This AD results from inspection findings that have shown repetitive inspections are needed to establish fleet safety. We are issuing this AD to detect and correct fatigue cracking of the sliding member, which could result in possible separation of the MLG from the airplane and consequent reduced controllability of the airplane upon landing and possible injury to passengers.

Compliance

(e) You are responsible for having the actions required by this AD performed within the compliance times specified, unless the actions have already been done.

Requirements of AD 2004-08-01

Inspection and Replacement if Necessary

(f) Within 1,000 flight cycles or 6 months after May 19, 2004 (the effective date of AD 2004-08-01), whichever occurs first, perform a magnetic inspection of the sliding members of the MLG for cracking, in accordance with the Accomplishment Instructions of Fokker Service Bulletin SBF100-32-133, dated April 1, 2002. If any crack is found during the inspection, before further flight, replace the sliding members with serviceable parts in accordance with the Accomplishment Instructions of the service bulletin.

Note 1: Fokker Service Bulletin SBF100-32-133, dated April 1, 2002, refers to Messier-Dowty Service Bulletin F100-32-103, dated March 11, 2002, as an additional source of service information.

Parts Installation With Accomplishment of New Service Bulletins

(g) As of May 19, 2004, no person may install a sliding member of the MLG, P/N 201072301 or P/N 201072305, on any airplane, unless it has been inspected in accordance with the Accomplishment Instructions of Fokker Service Bulletin SBF100-32-133, dated April 1, 2002; Fokker Service Bulletin SBF100-32-139, dated March 5, 2004; or Fokker Service Bulletin SBF100-32-144, dated September 19, 2005; and found to be serviceable.

Note 2: Fokker Service Bulletin SBF100-32-139, dated March 5, 2004, refers to Messier-Dowty Service Bulletin F100-32-105, dated March 2, 2004, as an additional source of service information for accomplishing a magnetic inspection.

Note 3: Fokker Service Bulletin SBF100-32-144, dated September 19, 2005, refers to Messier-Dowty Service Bulletin F100-32-110, dated August 25, 2005, as an additional source of service information for accomplishing a magnetic inspection.

Reporting Requirement Difference

(h) Although Fokker Service Bulletin SBF100-32-133, dated April 1, 2002, specifies to submit certain information to the manufacturer, this AD does not include such a requirement.

New Requirements of this AD

Repetitive Inspections

(i) At the later of the compliance times specified in paragraphs (i)(1) and (i)(2) of this AD: Do a magnetic inspection of the sliding members of the left and right MLG for cracking, and do all corrective actions before further flight after the inspection, by accomplishing all of the applicable actions specified in the Accomplishment Instructions of Fokker Service Bulletin SBF100-32-144, dated September 19, 2005. Repeat the inspection thereafter at intervals not to exceed 2,000 flight cycles.

(1) Within 2,000 flight cycles after accomplishing paragraph (f) of this AD.

(2) Within 4 months after the effective date of this AD.

Credit for Fokker Service Bulletin SBF100-32-139

(j) Actions done before the effective date of this AD in accordance with Fokker Service Bulletin SBF100-32-139, dated March 5, 2004, are acceptable for compliance with the corresponding requirements of paragraph (f) of this AD.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) Dutch airworthiness directive NL-2005-012, dated October 17, 2005, also addresses the subject of this AD.

Material Incorporated by Reference

(m) You must use the service information identified in Table 2 of this AD, as applicable, to perform the actions that are required by this AD, unless the AD specifies otherwise.

Table 2.—Material Incorporated by Reference
Fokker service bulletin | Date
SBF100-32-133 | April 1, 2002.
SBF100-32-139 | March 5, 2004.
SBF100-32-144 | September 19, 2005.

(1) The Director of the Federal Register approved the incorporation by reference of Fokker Service Bulletin SBF100-32-139, dated March 5, 2004; and Fokker Service Bulletin SBF100-32-144, dated September 19, 2005; in accordance with 5 U.S.C. 552(a) and 1 CFR part 51.

(2) On May 19, 2004 (69 FR 19759, April 14, 2004), the Director of the Federal Register approved the incorporation by reference of Fokker Service Bulletin SBF100-32-133, dated April 1, 2002.

(3) Contact Fokker Services B.V., Technical Services Dept., P.O. Box 231, 2150 AE Nieuw-Vennep, the Netherlands, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on February 13, 2007.
Ali Bahrami,
Manager, Transport Airplane Directorate, Aircraft Certification Service.

[FR Doc. E7-2974 Filed 2-26-07; 8:45 am]

BILLING CODE 4910-13-P